ENVIRONMENTAL PROTECTION AGENCY

[EPA-HQ-OW-2016-0178; FRL-9946-57-OW]

Proposed Information Collection Request; Comment Request; EPA Application Materials for the Water Infrastructure Finance and Innovation Act

AGENCY: Environmental Protection Agency (EPA).

ACTION: Notice.

SUMMARY: The Environmental Protection Agency is planning to submit an information collection request, EPA Application Materials for the Water Infrastructure Finance and Innovation Act (EPA ICR no. 2549.01, OMB Control No. 2040-NEW) to the Office of Management and Budget for review and approval in accordance with the Paperwork Reduction Act. Before doing so, EPA is soliciting public comments on specific aspects of the proposed information collection as described below. This is a request for approval of a new collection. An Agency may not conduct or sponsor and a person is not required to respond to a collection of information unless it displays a currently valid OMB control number.

DATES: Comments must be submitted on or before July 22, 2016.

ADDRESSES: Submit your comments, referencing Docket ID No. EPA-HQ-OW-2016-0178, online using www.regulations.gov (our preferred method), or by mail to: EPA Docket Center, Environmental Protection Agency, Mail Code 28221T, 1200 Pennsylvania Ave. NW., Washington, DC 20460.

EPA's policy is that all comments received will be included in the public docket without change, including any personal information provided, unless the comment includes profanity, threats, information claimed to be Confidential Business Information (CBI) or other information whose disclosure is restricted by statute.

FOR FURTHER INFORMATION CONTACT: Karen Fligger, Municipal Support Division, Office of Wastewater Management, 4201-T, Environmental Protection Agency, 1200 Pennsylvania Ave. NW., Washington, DC 20460; telephone number: (202) 564-2992; fax number: (202) 501-2346; email address: fligger.karen@epa.gov.

SUPPLEMENTARY INFORMATION: Supporting documents which explain in detail the information the EPA will be collecting are available in the public docket for this ICR. The docket can be viewed online at www.regulations.gov or in person at the EPA Docket Center, WJC West, Room 3334, 1301 Constitution Ave. NW., Washington, DC. The telephone number for the Docket Center is (202) 566-1744. For additional information about EPA's public docket, visit http://www.epa.gov/dockets.

Pursuant to section 3506(c)(2)(A) of the Paperwork Reduction Act (44 U.S.C. 3501 et seq.), EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The collection of information is necessary in order to receive applications for credit assistance pursuant to section 5024 of the Water Infrastructure Finance and Innovation Act (WIFIA) of 2014, 33 U.S.C 3903. The purpose of the WIFIA program is to provide Federal credit assistance in the form of direct loans and loan guarantees to eligible clean water and drinking water projects.

WIFIA requires that an eligible entity submit to the Administrator an application at such time, in such manner, and containing such information, as the Secretary or the Administrator may require to receive assistance under WIFIA. In order to satisfy these requirements, EPA must collect an application from applicants seeking funding. The Letters of Interest and Applications collected from loan applicants through this solicitation will be used by EPA, the WIFIA program office, and an evaluation team to evaluate applications for credit assistance under the WIFIA eligibility requirements and selection criteria.

Form Numbers: None.

Respondents/Affected Entities: The Letters of Interest and Applications collected from loan applicants through this solicitation will be used by EPA to evaluate requests for credit assistance under the WIFIA eligibility requirements and selection criteria.

Respondent's Obligation to Respond: Required to obtain credit assistance pursuant to section 5024 of WIFIA, 33 U.S.C. 3903.

Estimated Number of Respondents: 25 per year (total).

Frequency of Response: one per respondent.

Total Estimated Burden: 1,500 hours (per year). Burden is defined at 5 CFR 1320.03(b).

Total Estimated Cost: $1,489,594 (per year), includes no annualized capital or operation and maintenance costs.

Dated: May 12, 2016.
Andrew D. Sawyers,
Director, Office of Wastewater Management.

[FR Doc. 2016-12106 Filed 5-20-16; 8:45 am]

BILLING CODE 6560-50-P